DEPARTMENT OF ENERGY

Federal Energy Regulatory Commission

Notice of Filing

October 20, 2000.

In the matter of: RT01-24-000, RT01-25-000, RT01-26-000, RT01-27-000, RT01-28-000, RT01-29-000, RT01-30-000, RT01-31-000, RT01-32-000, RT01-33-000, RT01-35-000, RT01-36-000, RT01-37-000, RT01-38-000, (Not Consolidated); Edison Mission Energy and Midwest Generation, LLC, Cleco Utility Group, Inc., Northern Indiana Public Service Company, Electric Energy, Inc., Oklahoma Gas and Electric Company, Empire District Company, Florida Keys Electric Cooperative Association, Inc., Inland Power & Light Company, Kandiyohi Cooperative Electric Power Association, Edison Sault Electric Company, Avista Corporation, Bonneville Power Administration, Idaho Power Company, Montana Power Company, Nevada Power Company, PacifiCorp, Portland General Electric Company, Puget Sound Energy, Inc., Sierra Pacific Power Company, McDonough Power Cooperative, Dayton Power and Light Company, Montana-Dakota Utilities Company.

Take notice that on October 16, 2000, the entities listed in the caption above made compliance filings pursuant to 18 CFR 35.34(c) and the Commission's Order No. 2000.¹

¹ Regional Transmission Organizations, Order No. 2000, 65 Fed. Reg. 809 (January 6, 2000), FERC Stats. & Regs. ¶31,089 (1999), order on reh'g, Order No. 2000-A, 65 Fed. Reg. 12,088 (March 8, 2000), FERC Stats. & Regs. ¶31,092 (2000).

Any person desiring to be heard or to protest such filings should file a motion to intervene, comments, or protest with the Federal Energy Regulatory Commission, 888 First Street, NE., Washington, DC 20426, in accordance with Rules 211 and 214 of the Commission's Rules of Practice and Procedure (18 CFR 385.211 and 385.214). All such motions, comments and protests should be filed on or before November 20, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Beginning November 1, 2000, comments and protests may be filed electronically via the internet in lieu of paper. See, 18 CFR 385.2001(a)(1)(iii) and the instructions on the Commission's web site at http://www.ferc.fed.us/efi/doorbell.htm.

Linwood A. Watson, Jr.,
Acting Secretary.

[FR Doc. 00-27494 Filed 10-25-00; 8:45 am]

BILLING CODE 6717-01-M